FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011325-029.

Title: Westbound Transpacific Stabilization Agreement.

Parties: American President Lines, Ltd., APL Co. PTE Ltd., Hapag-Lloyd Container Linie GmbH, P&O Nedlloyd B.V., COSCO Container Lines Company, Limited, Mitsui O.S.K. Lines, Ltd., Nippon Yusen Kaisha, P&O Nedlloyd Limited, Yangming Marine Transport Corp., Kawasaki Kisen Kaisha, Ltd., Orient Overseas Container Line Limited, Evergreen Marine Corp. (Taiwan) Ltd., Hanjin Shipping Co., Ltd.

Synopsis: The amendment restates and updates the agreement by deleting references to unused or obsolete provisions, streamlines the parties' authority under the agreement, and adds a new provision authorizing the parties to exchange information with the Ocean Carrier Equipment Management Association.

Agreement No.: 011730-002.

Title: GWF/Dole Space Charter and Sailing Agreement.

Parties: Great White Fleet (US) Ltd., Dole Ocean Cargo Express, Inc.

Synopsis: The proposed amendment removes the December 31, 2002, expiration date from the agreement. The parties request expedited review.

Agreement No.: 011745-005.

Title: Evergreen/Lloyd Triestino/Hatsu Marine Alliance Agreement.

Parties: Evergreen Marine Corp. (Taiwan) Ltd., Lloyd Triestino Di Navegazione S.p.A., Hatsu Marine Limited.

Synopsis: The proposed amendment extends the scope of the agreement to include ports in Europe and amends the service contract provisions to provide, among other things, authority for the parties to discuss guidelines with respect to the terms and conditions of their individual service contracts.

Agreement No.: 201045-005.

Title: Master Contract Assessment Agreement.

Parties: United States Maritime Alliance, Ltd., International Longshoremen's Association, AFL-CIO.

Synopsis: The amendment revises the calculations for the Container Royalty Fund under the agreement.

By Order of the Federal Maritime Commission.
Dated: December 6, 2002.
Bryant L. VanBrakle,
Secretary.

[FR Doc. 02-31221 Filed 12-10-02; 8:45 am]

BILLING CODE 6730-01-P